DEPARTMENT OF COMMERCE

International Trade Administration

[A-428-801]

Ball Bearings and Parts Thereof From Germany: Initiation of Antidumping Duty Changed-Circumstances Review

AGENCY: Import Administration, International Trade Administration, Department of Commerce.

SUMMARY: Pursuant to section 751(b) of the Tariff Act of 1930, as amended, and 19 CFR 351.216 and 351.221(c)(3), the Department of Commerce is initiating a changed-circumstances review of the antidumping duty order on ball bearings and parts thereof from Germany with respect to myonic GmbH.

DATES: Effective Date: January 21, 2010.

FOR FURTHER INFORMATION CONTACT: Yang Jin Chun or Richard Rimlinger, AD/CVD Operations, Office 5, Import Administration, International Trade Administration, U.S. Department of Commerce, 14th Street and Constitution Avenue, NW., Washington, DC 20230; telephone: (202) 482-5760 or (202) 482-4477, respectively.

SUPPLEMENTARY INFORMATION:

Background

The Department of Commerce (the Department) published antidumping duty orders on ball bearings, cylindrical roller bearings, and spherical plain bearings and parts thereof from Germany on May 15, 1989. See Antidumping Duty Orders: Ball Bearings, Cylindrical Roller Bearings, and Spherical Plain Bearings and Parts Thereof From the Federal Republic of Germany, 54 FR 20900 (May 15, 1989). The orders on cylindrical roller bearings and spherical plain bearings and parts thereof from Germany have been revoked. See Revocation of Antidumping Duty Orders on Certain Bearings From Hungary, Japan, Romania, Sweden, France, Germany, Italy, and the United Kingdom, 65 FR 42667 (July 11, 2000).

Miniaturkugellager GmbH (MKL) was a respondent in a new-shipper administrative review of the antidumping duty order on ball bearings and parts thereof from Germany covering the period December 1, 1994, through May 31, 1995. See Ball Bearings (Other Than Tapered Roller Bearings) and Parts Thereof, From Germany; Final Results of New Shipper Antidumping Duty Administrative Review, 61 FR 15769 (April 9, 1996). As a result of a changed-circumstances review, we determined that myonic GmbH (myonic), a foreign producer of subject merchandise, is a successor-in-interest to MKL. See Ball Bearings and Parts Thereof from Germany: Final Results of Antidumping Duty Changed-Circumstances Review, 73 FR 75078 (December 10, 2008).

On June 24, 2009, we initiated the administrative review of the antidumping duty order on ball bearings and parts thereof from Germany covering the period May 1, 2008, through April 30, 2009. See Initiation of Antidumping and Countervailing Duty Administrative Reviews and Requests for Revocation in Part, 74 FR 30052 (June 24, 2009). After analysis of the quantity and value of the sales of ball bearings and parts thereof from Germany during the 2008-09 period of review, we selected myonic as a respondent for individual examination. See the memorandum to the File entitled “Ball Bearings and Parts Thereof from Germany—Respondent Selection” dated August 3, 2009. In its October 1, 2009, response to the Department's antidumping questionnaire, myonic informed the Department that, on March 5, 2009, Minebea Co., Ltd., purchased 100 percent of the shares of myonic GmbH Holding, which is myonic's parent company. In addition, myonic reported that an unaffiliated investor purchased myonic Inc., which was myonic's U.S. subsidiary. The Department did not receive a request from myonic or any other interested parties for a changed-circumstances review with respect to myonic.

Scope of the Order

The products covered by the order are ball bearings and parts thereof. These products include all antifriction bearings that employ balls as the rolling element. Imports of these products are classified under the following categories: Antifriction balls, ball bearings with integral shafts, ball bearings (including radial ball bearings) and parts thereof, and housed or mounted ball bearing units and parts thereof.

Imports of these products are classified under the following Harmonized Tariff Schedule of the United States (HTSUS) subheadings: 3926.90.45, 4016.93.10, 4016.93.50, 6909.19.50.10, 8431.20.00, 8431.39.00.10, 8482.10.10, 8482.10.50, 8482.80.00, 8482.91.00, 8482.99.05, 8482.99.35, 8482.99.25.80, 8482.99.65.95, 8483.20.40, 8483.20.80, 8483.30.40, 8483.30.80, 8483.50.90, 8483.90.20, 8483.90.30, 8483.90.70, 8708.50.50, 8708.60.50, 8708.60.80, 8708.93.30, 8708.93.60.00, 8708.99.06, 8708.99.31.00, 8708.99.40.00, 8708.99.49.60, 8708.99.58, 8708.99.80.15, 8708.99.80.80, 8803.10.00, 8803.20.00, 8803.30.00, 8803.90.30, and 8803.90.90, 8708.30.50.90, 8708.40.75, 8708.50.79.00, 8708.50.89.00, 8708.50.91.50, 8708.50.99.00, 8708.70.60.60, 8708.80.65.90, 8708.93.75.00, 8708.94.75, 8708.95.20.00, 8708.99.55.00, 8708.99.68, 8708.99.81.80.

Although the HTSUS item numbers above are provided for convenience and customs purposes, the written description of the scope of the order remains dispositive.

Initiation of Changed-Circumstances Review

Pursuant to section 751(b)(1) of the Tariff Act of 1930, as amended (the Act), and 19 CFR 351.216(d), the Department will conduct a changed-circumstances review upon receipt of information concerning, or a request from an interested party for a review of, an antidumping duty order which shows changed circumstances sufficient to warrant a review of the order. Based on the information myonic has submitted in the 2008-09 administrative review, we find that we have received information which shows changed circumstances sufficient to warrant initiation of such a review in order to determine whether the post-acquisition myonic is the successor-in-interest to the pre-acquisition myonic. See 19 CFR 351.216(d). Therefore, in accordance with the above-referenced statute and regulation, the Department is initiating a changed-circumstances review.

Because we are currently conducting the 2008-09 administrative review, we will conduct the changed-circumstances review in the context of the 2008-09 administrative review. In accordance with 19 CFR 351.221(b)(2), we will issue a questionnaire requesting factual information pertinent to the changed-circumstances review. We intend to issue the preliminary results of the changed-circumstances review when we issue the preliminary results of the 2008-09 administrative review; we intend to issue the final results of the changed-circumstances review when we issue the final results of the 2008-09 administrative review. During the course of this review, we will not change the cash-deposit requirements for the subject merchandise. The cash-deposit rate will be altered, if warranted, pursuant only to the final results of the changed-circumstances and/or administrative review.

This notice of initiation is in accordance with section 751(b)(1) of the Act and 19 CFR 351.221(b)(1).

Dated: January 14, 2010.
Gary Taverman,
Acting Deputy Assistant Secretary for Antidumping and Countervailing Duty Operations.

[FR Doc. 2010-1069 Filed 1-20-10; 8:45 am]

BILLING CODE 3510-DS-P